DEPARTMENT OF COMMERCE

National Oceanic and Atmospheric Administration

[I.D. 053001B]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Scientific & Statistical Committee, Shrimp Committee, Executive Committee, Personnel Committee and the Marine Protected Areas Committee. The Council will also hold joint meetings of the Mackerel Committee and Advisory Panel and a joint meeting of the Controlled Access Committee and the Rock Shrimp Advisory Panel. Public comment periods will be held during some of the meetings. There will also be a full Council Session. A Social Science Workshop will be held as part of the meeting.

DATES: The meetings will be held in June 2001. See SUPPLEMENTARY INFORMATION for specific dates and times.

ADDRESSES: The meetings will be held at the Radisson Ponce de Leon Conference Resort Hotel, 4000 U.S. Highway 1 North, St. Augustine, FL 32095; Telephone: 904-824-2821, FAX: 904-824-8254. Copies of the documents are available from Kim Iverson, Public Information Officer, and South Atlantic Fishery Management Council.

Council Address: South Atlantic Fishery Management Council, One Southpark Circle, Suite 306, Charleston, SC 29407-4699.

FOR FURTHER INFORMATION CONTACT: Kim Iverson, Public Information Officer; telephone: 843-571-4366; fax: 843-769-4520; email: kim.iverson@noaa.gov.

SUPPLEMENTARY INFORMATION:

Meeting Dates

1. Social Science Workshop: June 17, 2001, 1:30-5:30 p.m.

A Social Science Workshop will be held in order to hold discussion on social issues as they relate to the following: New Social Impact Assessment Guidelines from the National Marine Fisheries Service, implementation/evaluation of Marine Protected Areas in the South Atlantic and a review of the current limited entry program in the South Atlantic Snapper Grouper fishery.

2. Scientific & Statistical Committee Meeting: June 18, 2001, 8:30 a.m.-12 Noon and 1:30-5 p.m.

The Scientific & Statistical Committee will meet to review and comment on the following; Shrimp Amendment 5 (rock shrimp limited access), Economic Cost & Returns Study, Census Study, Marine Protected Areas public scoping document, Snapper Grouper Amendment 13 (list of options), the Snapper Grouper Assessment Group Report and final guidelines for economic analysis. The Committee will also address mackerel issues including the 2001 stock assessment, framework action, Amendment 15 and Gulf Council actions relative to the Tortugas Sanctuary and charter vessel permits.

3. Joint Mackerel Committee and Advisory Panel Meeting: June 19, 2001, 8:30 a.m.-12 noon and 1:30-3:30 p.m.

The Mackerel Committee will meet jointly with the Mackerel Advisory Panel to discuss potential framework actions, review the Amendment 15 options paper, review Gulf Council actions relative to the Tortugas Sanctuary (Amendment 13) and review the Gulf Council's actions on the moratorium on charter vessel permits (Amendment 14).

4. Shrimp Committee Meeting: June 19, 2001, 3:30-5 p.m.

The Shrimp Committee will meet to discuss language and/or format modifications to the “Bycatch Reduction Device Testing Protocol Manual” and develop modifications to the protocol manual if appropriate.

Public Hearings: June 19, 2001, 6 p.m.

Public hearings will be held beginning at 6 p.m. in the order indicated regarding the following issues: Amendment 5 to the Rock Shrimp Fishery Management Plan (FMP) (rock shrimp limited access); Amendment 13 to the Mackerel FMP and Spiny Lobster Amendment 7 (Gulf Council actions relative to the Tortugas Sanctuary in the Gulf of Mexico); and Amendment 14 to the Mackerel FMP (Gulf Council actions on a moratorium on charter vessel permits in the Gulf of Mexico. Documents regarding these issues are available through the Council office (see ADDRESSES).

5. Executive Committee Meeting: June 20, 2001, 8:30-9:30 a.m.

The Executive Committee will meet to review Council activities and establish priorities for the remainder of 2001.

6. Personnel Committee Meeting: June 20, 2001, 9:30-10:30 a.m.

The Personnel Committee will meet in a closed session to discuss the Executive Director's recommendations for additional staff positions.

7. Joint Controlled Access Committee and Rock Shrimp Advisory Panel: June 20, 2001, 10:30 a.m.-12 noon and 1:30-5 p.m.

The Joint Controlled Access Committee and Rock Shrimp Advisory Panel will meet to review public hearing comments on Amendment 5 to the Rock Shrimp FMP (limited access) and formal comments from the National Marine Fisheries Service. The Committee and Advisory Panel will discuss and develop recommendations regarding Amendment 5 to the Rock Shrimp FMP.

8. Joint Controlled Access Committee and Rock Shrimp Advisory Panel: June 21, 2001, 8:30 a.m.-10:30 a.m.

The Committee and Advisory Panel will continue to discuss and develop recommendations regarding Amendment 5 to the Rock Shrimp FMP.

9. Marine Protected Area Committee: June 21, 2001, 10:30 a.m.-12 noon and 1:30-5 p.m.

The Marine Protected Area Committee will meet to hear an update on the Memorandum Of Agreement (MOU) with Gray's Reef Marine Sanctuary, review the results of scoping meeting and other comments/recommendations, hear a report on the advisory panel meeting and their recommendations, develop committee recommendations and discuss the timing of work for 2001 and 2002.

10. Council Session: June 22, 2001, 8:30 a.m.-4 p.m.

From 8:30-8:45 a.m., the Council will have a Call to Order, introductions and roll call adoption of the agenda, and approval of the March 2001 meeting minutes.

From 8:45-9:45 a.m., the Council will hold a Public Scoping Meeting on: (1) coral framework action to establish additional Habitat Areas of Particular Concern and (2) development of a comprehensive FMP amendment addressing permit renewal timeframes, operator permits, a consolidated controlled access system and the Atlantic Coast Cooperative Statistics Program's permits and reporting. Documents regarding these issues are available from the Council office (see ADDRESSES).

From 9:45-10:45 a.m., the Council will hear a report from the Mackerel Committee. Beginning at 9:45 a.m., a public comment period will be held on any proposed framework changes to the Mackerel FMP. Following the public comment period, decisions will be made regarding (1) any proposed framework actions, (2) Amendment 13 to the Mackerel FMP (Gulf Council actions relative to the Tortugas Sanctuary in the Gulf of Mexico) and (3) Amendment 14 to the Mackerel FMP (Gulf Council actions on a moratorium on charter vessel permits in the Gulf of Mexico).

From 10:45-11:15 a.m., the Council will hear a report from the Controlled Access Committee regarding Amendment 5 to the Shrimp FMP (rock shrimp limited access) and make modifications as appropriate.

From 11:15-11:45 a.m., the Council will address red porgy issues including current stock status, information from fishermen and management measures currently in place.

From 11:45 a.m.-12:15 p.m., the Council will hear a report from the Shrimp Committee. A public comment period will be held beginning at 11:45 a.m. regarding any proposed modifications to the BRD Testing Protocol Manual. Following the comment period, the Council will make a decision on any language/format modifications to the manual as needed.

From 1:30-2 p.m., the Council will hear a report from the Marine Protected Areas Committee and modify the MOU with Gray's Reef if necessary. The Council will also discuss the approach and timing for Marine Protected Areas.

From 2-2:15 p.m., the Council will hear a report from the Executive Committee.

From 2:15-2:30 p.m., the Council will hear a report from the Personnel Committee.

From 2:30-2:45 p.m., the Council will hear a report on the recent Chairmen's meeting.

From 2:45-3 p.m., the Council will hear a report on the Atlantic Coastal Cooperative Statistics Program (ACCSP) Coordinating Council's funding recommendations.

From 3-3:30 p.m., the Council will hear status reports from NMFS on the: 2000/2001 Mackerel Framework, resubmitted Calico Scallop FMP, resubmitted Sargassum FMP, Golden Crab Amendment 3, and Dolphin Emergency Rule request. The Council will also hear NMFS status reports on landing for Atlantic king mackerel, Gulf king mackerel, Atlantic Spanish mackerel, snowy grouper & golden tilefish, wreckfish, greater amberjack and south Atlantic octocorals.

From 3:30-4 p.m., the Council will hear Agency and Liaison Reports, discuss other business and upcoming meetings.

Although non-emergency issues not contained in this agenda may come before this Council for discussion, those issues may not be the subjects of formal Council action during this meeting. Council action will be restricted to those issues specifically listed in this notice and any issues arising after publication of this notice that require emergency action under section 305 (c) of the Magnuson-Stevens Fishery Conservation and Management Act, provided the public has been notified of the Council’s intent to take final action to address the emergency.

Special Accommodations

These meetings are physically accessible to people with disabilities. Requests for sign language interpretation or other auxiliary aids should be directed to the Council office (see ADDRESSES) 5 days prior to the meeting date.

Dated: May 30, 2001.
Richard W. Surdi,
Acting Director, Office of Sustainable Fisheries, National Marine Fisheries Service.

[FR Doc. 01-13968 Filed 6-1-01; 8:45 am]

BILLING CODE 3510-22-S